DEPARTMENT OF HOMELAND SECURITY

U.S. Customs and Border Protection

[Docket No. USCBP-2012-0015]

Request for Applicants for Appointment to the Advisory Committee on Commercial Operations of Customs and Border Protection (COAC)

AGENCY: U. S. Customs and Border Protection; Department of Homeland Security.

ACTION: Committee Management; Request for Applicants for Appointment to COAC.

SUMMARY: U.S. Customs and Border Protection (CBP) is requesting individuals who are interested in serving on the Advisory Committee on Commercial Operations of Customs and Border Protection to apply for appointment (COAC). COAC provides advice and makes recommendations to the Commissioner of CBP, the Secretary of the Department of Homeland Security, and the Secretary of the Treasury on all matters involving the commercial operations of CBP and related DHS and Treasury functions.

DATES: Applications for membership should reach CBP at the address below on or before July 27, 2012.

ADDRESSES: If you wish to apply for membership, your application should be submitted by one of the following means:

• Email: Traderelations@dhs.gov.

• Fax: 202-325-4290.

• Mail: Ms. Wanda Tate, Management & Program Analyst, Office of Trade Relations, U.S. Customs and Border Protection, 1300 Pennsylvania Avenue NW., Room 5.2A, Washington, DC 20229.

FOR FURTHER INFORMATION CONTACT: Ms. Wanda Tate, Management & Program Analyst, 1300 Pennsylvania Avenue NW., Room 5.2A, Wanda.Tate@dhs.gov, 202-344-1661, 202-325-4290.

SUPPLEMENTARY INFORMATION: The Advisory Committee on Commercial Operations of Customs and Border Protection (COAC) is an advisory committee established in accordance with the provisions of the Federal Advisory Committee Act (FACA), 5 U.S.C. App. 2.

Balanced Membership Plans: The COAC consists of twenty members who are selected from representatives of the trade or transportation community served by U.S. Customs and Border Protection (CBP) or others who are directly affected by CBP commercial operations and related functions. The members shall represent the interests of either importers (and their agents) or those associated with the carriage of international freight. The members will be appointed by the Secretaries of the Department of Homeland Security and the Treasury from candidates recommended by the Commissioner of CBP. In addition, members will represent major regions of the country, and, by statute, not more than ten of the twenty Committee members may be affiliated with the same political party.

It is expected that, during its upcoming thirteenth two-year term, the Committee will consider issues relating to enhanced border and cargo supply chain security, CBP modernization and automation, informed compliance and compliance assessment, account-based processing, commercial enforcement and uniformity, international efforts to harmonize customs practices and procedures, strategic planning, northern border and southern border issues, and import safety.

Committee Meetings:

The Committee meets quarterly each year although additional meetings may be scheduled. Generally, every other meeting of the Committee is held outside of Washington, DC, usually at a CBP port of entry. The members are not reimbursed for travel and per diem.

Committee Membership:

Membership on the Committee is personal to the appointee and a member may not send an alternate to represent him or her at a Committee meeting. Appointees will serve a two-year term of office that will be concurrent with the duration of the charter.

No person who is required to register under the Foreign Agents Registration Act as an agent or representative of a foreign principal may serve on this advisory Committee. If you are Federal registered lobbyist you will not be eligible to apply for appointment.

Members who are currently serving on the Committee are eligible to re-apply for membership provided that they are not in their second consecutive term and that they have met attendance requirements. A new application letter (see ADDRESSES above) is required, but it may incorporate by reference materials previously filed (please attach courtesy copies). Members will not be paid compensation by the Federal Government for their services with respect to the COAC.

Application for Advisory Committee Appointment

Any interested person wishing to serve on the (COAC) must provide the following:

• Statement of interest and reasons for application;

• Complete professional biography or resume;

• Home address and telephone number;

• Work address, telephone number, and email address;

• Political affiliation in order to ensure balanced representation. (Required by COAC's authorizing legislation; if no party registration or allegiance exists, indicate “independent” or “unaffiliated.”);

• Statement of the industry you represent;

• Statement whether you are a Federally registered lobbyist;

• Statement agreeing to submit to pre-appointment background and tax checks (mandatory). However, a national security clearance is not required for the position.

The Department of Homeland Security (DHS) does not discriminate in employment on the basis of race, color, religion, sex, national origin, sexual orientation, gender identity, marital status, disability and genetic information, age, membership in an employee organization, or other non-merit factor. DHS strives to achieve a widely diverse candidate pool for all of its recruitment actions.

Dated: June 6, 2012.
David V. Aguilar,
Acting Commissioner, U.S. Customs and Border Protection.

[FR Doc. 2012-14183 Filed 6-11-12; 8:45 am]

BILLING CODE 9111-14-P